DEPARTMENT OF TRANSPORTATION

Surface Transportation Board

[STB Finance Docket No. 34860]

Union Pacific Railroad Company—Temporary Trackage Rights Exemption-Southern California Regional Rail Authority

Southern California Regional Rail Authority (SCRRA) has agreed to grant temporary overhead trackage rights to Union Pacific Railroad Company (UP) over SCRRA's rail line between Los Angeles, CA (milepost 0.90), and the City of Industry, CA (milepost 15.00), a distance of 14.1 miles.

The transaction was scheduled to be consummated on April 10, 2006, and the temporary trackage rights are intended to expire on or about April 30, 2006. The purpose of the temporary trackage rights is to allow UP to bridge its train service while its main lines are out of service due to programmed track, roadbed, and structural maintenance.

As a condition to this exemption, any employee affected by the acquisition of the temporary trackage rights will be protected by the conditions imposed in Norfolk and Western Ry. Co.—Trackage Rights—BN, 354 I.C.C. 605 (1978), as modified in Mendocino Coast Ry., Inc.—Lease and Operate, 360 I.C.C. 653 (1980), and any employee affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction.

An original and 10 copies of all pleadings, referring to STB Finance Docket No. 34860, must be filed with the Surface Transportation Board, 1925 K Street, NW., Washington, DC 20423-0001. In addition, a copy of each pleading must be served on Gabriel S. Meyer, Assistant General Attorney, 1400 Douglas Street, STOP 1580, Omaha, NE 68179.

Board decisions and notices are available on our Web site at http://www.stb.dot.gov.

Decided: April 12, 2006.
By the Board, David M. Konschnik, Director, Office of Proceedings.
Vernon A. Williams,
Secretary.

[FR Doc. E6-5739 Filed 4-20-06; 8:45 am]

BILLING CODE 4915-01-P